ENVIRONMENTAL PROTECTION AGENCY

[OPP-2004-0109, FRL-7820-8]

Agency Information Collection Activities; Submission to OMB; Comment Request; EPA ICR No. 1911.02; OMB Control No. 2070-0164; Data Acquisition for Anticipated Residue and Percent of Crop Treated

AGENCY: Environmental Protection Agency (EPA).

ACTION: Notice.

SUMMARY: In compliance with the Paperwork Reduction Act (PRA) (44 U.S.C. 3501 et seq.), this document announces that the following Information Collection Request (ICR) has been forwarded to the Office of Management and Budget (OMB) for review and approval: Data Acquisition for Anticipated Residue and Percent of Crop Treated; EPA ICR No. 1911.02; OMB Control No. 2070-0164. This is a request to renew an existing approved collection that is currently scheduled to expire on September 30, 2004. Under OMB regulations, the Agency may continue to conduct or sponsor the collection of information while this submission is pending at OMB. The ICR, which is abstracted below, describes the nature of the information collection activity and its expected burden and costs.

DATES: Additional comments may be submitted on or before October 28, 2004.

FOR FURTHER INFORMATION CONTACT: Nathanael R. Martin, Field and External Affairs Division (7506C), Office of Pesticide Programs, Environmental Protection Agency, 1200 Pennsylvania Ave., NW., Washington, DC 20460; telephone number: (703) 305-6475; fax number: (703) 305-5884; e-mail address: martin.nathanael@epa.gov.

ADDRESSES: Submit your comments, referencing docket ID number OPP-2004-0109 to: (1) EPA online using EDOCKET (our preferred method), by e-mail to opp-docket@epa.gov, or by mail to: Public Information and Records Integrity Branch (PIRIB), Office of Pesticide Programs (OPP), Environmental Protection Agency, Mailcode: 7502C, 1200 Pennsylvania Ave., NW., Washington, DC, 20460; and (2) OMB at: Office of Information and Regulatory Affairs, Office of Management and Budget (OMB), Attention: Desk Officer for EPA, 725 17th Street, NW., Washington, DC 20503.

SUPPLEMENTARY INFORMATION: EPA has submitted the following ICR to OMB for review and approval according to the procedures prescribed in 5 CFR 1320.12. The Federal Register document, required under 5 CFR 1320.8(d), soliciting comments on this collection of information published on May 5, 2004 (69 FR 25079). EPA received no comments on this ICR during that 60-day comment period.

EPA has established a public docket for this ICR under Docket ID No. OPP-2004-0109 which is available for public viewing at the Public Information and Records Integrity Branch (PIRIB), Rm. 119, Crystal Mall #2, 1801 Bell St., Arlington, VA. This docket facility is open from 8:30 a.m. to 4 p.m., Monday through Friday, excluding legal holidays. The docket telephone number is (703) 305-5805. An electronic version of the public docket is available through EDOCKET at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice.Please note, EPA's policy is that public comments, whether submitted electronically or on paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

ICR Title: Data Acquisition for Anticipated Residue and Percent of Crop Treated.

ICR Numbers: EPA ICR No. 1911.02; OMB Control No. 2070-0164.

ICR Status: EPA is asking OMB to extend the existing approval of this ICR for three years. Under 5 CFR 1320.12(b)(2), the Agency may continue to conduct or sponsor the collection of information while the submission is pending at OMB.

Abstract: This ICR will enable EPA's Office of Pesticide Programs (OPP) to obtain information needed to re-evaluate the Agency's original tolerance decisions as mandated by the Food Quality Protection Act of 1996 (FQPA), which amended the two primary statutes regulating pesticides, i.e., the Federal Food, Drug, and Cosmetic Act (FFDCA) and the Federal Insecticide, Fungicide and Rodenticide Act (FIFRA). Among other things, FQPA amended FFDCA to authorize the Agency to use anticipated or actual residue (ARs) data and percent crop treated (PCT) data to establish, modify, maintain, or revoke a tolerance for a pesticide residue. The new law also requires that tolerance decisions based on ARs or PCT data be verified to ensure that residues in or on food are not above the residue levels relied on for establishing the tolerance.

In order to conduct the required re-evaluation, a Pesticide Registrant may be required to submit specific data necessary to demonstrate that residues do not exceed the residue levels used to establish the tolerance.

An agency may not conduct or sponsor, and a person is not required to respond to, a collection of information unless it displays a currently valid OMB control number. The OMB control numbers for EPA's regulations in 40 CFR are listed in 40 CFR part 9 and are identified on the form and/or instrument, if applicable.

Burden Statement: The total annual “respondent” burden for this ICR is estimated to be 28,569 hours. According to the Paperwork Reduction Act, “burden” means the total time, effort, or financial resources expended by persons to generate, maintain, retain, or disclose or provide information to or for a Federal agency. For this collection, it is the time reading the regulations, planning the necessary data collection activities, conducting tests, analyzing data, generating reports and completing other required paperwork, and storing, filing, and maintaining the data. The agency may not conduct or sponsor, and a person is not required to respond to, a collection of information unless it displays a currently valid OMB control number.

The following is a summary of the burden estimates taken from the ICR:

Respondents/affected entities: Businesses engaged in the manufacture of pesticides who file a petition asking the Agency to take a specific tolerance action.

Estimated total number of potential respondents: 16.

Frequency of response: On occasion, i.e., once five years after initial tolerance is established.

Estimated total/average number of responses for each respondent: 1.

Estimated total annual burden hours: 28,569.

Estimated total annual costs: $2,524,938, includes $0 annualized capital or O&M costs.

Changes in the ICR Since the Last Approval: The total annual respondent burden estimate for this ICR has decreased 1,238 hours, from 29,807 to 28,569, and the total respondent cost has decreased $248,928, from $2,773,866 to $2,594,938. These reductions are adjustments due to the fact that the Agency expects to issue fewer data call-ins under this program than originally estimated.

Dated: September 21, 2004.
Oscar Morales,
Director, Collection Strategies Division.

[FR Doc. 04-21703 Filed 9-27-04; 8:45 am]

BILLING CODE 6560-50-P